DEPARTMENT OF TRANSPORTATION

Federal Highway Administration

Environmental Impact Statement: Marin and Sonoma County, CA

AGENCY: Federal Highway Administration (FHWA), DOT.

ACTION: Notice of Intent.

SUMMARY: The FHWA is issuing this notice to advise the public that an Environmental Impact Statement will be prepared for a proposed highway project in Marin and Sonoma County, California.

FOR FURTHER INFORMATION CONTACT: Mr. C. Glenn Clinton, Team Leader, Project Delivery Team-North, Federal Highway Administration, 980 9th Street, Suite 400, Sacramento, California 95814-2724, Telephone: (916) 498-5020.

SUPPLEMENTARY INFORMATION: The FHWA in cooperation with the California Department of Transportation (Caltrans) will prepare an environmental impact statement (EIS) for a proposal to relieve recurring traffic congestion and to reduce high occupancy vehicle (HOV) lane user delay on US 101 between State Route 37 in Marin County and the Old Redwood Highway Interchange in Sonoma County, a distance of approximately 27.5 kilometers (16 miles). The proposed project is an important component of a comprehensive, multi-modal transportation plan.

The Marin-Sonoma Narrows Project proposes to extend the existing high occupancy vehicle (HOV) lane system in Marin County northward into southern Sonoma County. Alternatives under consideration include: (1) taking no action; (2) addition of a northbound and a southbound high occupancy vehicle (HOV) lane; (3) constructing a reversible HOV lane; and (4) construction of high occupancy toll (HOT) lanes. The project proposes conversion of existing expressway to access-controlled freeway and the addition and/or upgrade of intersections. Additional alternatives and design options will be developed during public scoping meetings.

Information describing the proposed action and soliciting comments will be sent to appropriate Federal, State, and local agencies, and to private organizations and citizens who have previously expressed or are known to have interest in this proposal. Public scoping meetings will be held in Marin County and in Sonoma County in late spring and early summer 2001. A public hearing will be held later in the environmental process, after the draft environmental impact statement (DEIS) is completed. Public notice will be given of the time and place of the meetings and hearing. The draft EIS will be available for public and agency review and comment prior to the public hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. Regulations implementing Executive Order 12372 regarding intergovernmental consultation on Federal programs and activities apply to this program.)
Issued on: April 23, 2001.
C. Glenn Clinton,
Team Leader, Program Delivery Team, North Sacramento, California.

[FR Doc. 01-10891 Filed 5-1-01; 8:45 am]

BILLING CODE 4910-22-M